DEPARTMENT OF COMMERCE

International Trade Administration

University of Wisconsin—Madison; Notice of Decision on Application for Duty-Free Entry of Scientific Instrument

This is a decision pursuant to section 6(c) of the Educational, Scientific and Cultural Materials Importation Act of 1966 (Pub. L. 89-651, 80 Stat. 897; 15 CFR part 301). Related records can be viewed between 8:30 a.m. and 5 p.m. in Room 4211, U.S. Department of Commerce, 14th and Constitution Avenue, NW., Washington, DC.

Decision: Denied. Applicant has failed to establish that domestic instruments of equivalent scientific value to the foreign instrument for the intended purposes are not available.

Reasons: Section 301.5(e)(4) of the regulations requires the denial of applications that have been denied without prejudice to resubmission if they are not resubmitted within the specified time period. This is the case for the following docket.

Docket Number: 00-020. Applicant: University of Wisconsin—Madison, Madison, WI 53706-1490. Instrument: Zebra Fish Tank Installation. Manufacturer: Aquarien-Bau Schwarz, Germany. Date of Denial Without Prejudice to Resubmission: August 2, 2000.

Gerald A. Zerdy,
Program Manager, Statutory Import Programs Staff.

[FR Doc. 00-29007 Filed 11-9-00; 8:45 am]

BILLING CODE 3510-DS-P